DEPARTMENT OF LABOR

Employment and Training Administration

[TA-W-42,277]

Eaton Corporation, Rochester Hills, MI; Notice of Termination of Investigation

Pursuant to section 221 of the Trade Act of 1974, an investigation was initiated on October 28, 2002 in response to a petition filed on behalf of workers at Eaton Corporation, Rochester Hills, Michigan.

The petitioners have requested that the petition be withdrawn. Consequently, further investigation in this case would serve no purpose, and the investigation has been terminated.

Signed in Washington, DC, this 13th day of February, 2003.
Linda G. Poole,
Certifying Officer, Division of Trade Adjustment Assistance.

[FR Doc. 03-5541 Filed 3-7-03; 8:45 am]

BILLING CODE 4510-30-P